DEPARTMENT OF ENERGY

Federal Energy Regulatory Commission

Combined Notice of Filings

September 25, 2007.

Take notice that the Commission received the following exempt wholesale generator filings:

Docket Numbers: EG07-83-000.

Applicants: Smoky Hills Wind Farm, LLC.

Description: Notice of Self-Certification of Exempt Wholesale Generator of Smoky Hills Wind Farm, LLC.

Filed Date: 09/19/2007.

Accession Number: 20070919-5098.

Comment Date: 5 p.m. Eastern Time on Wednesday, October 10, 2007.

Docket Numbers: EG07-84-000.

Applicants: Cloud County Wind Farm, LLC.

Description: Cloud County Wind Farm LLC Notice of Self-Certification of Exempt Wholesale Generator (EWG) Status.

Filed Date: 09/21/2007.

Accession Number: 20070921-5075.

Comment Date: 5 p.m. Eastern Time on Friday, October 12, 2007.

Docket Numbers: EG07-85-000.

Applicants: Pioneer Prairie Wind Farm I, LLC.

Description: Pioneer Prairie Wind Farm I, LLC Notice of Self-Certification of Exempt Wholesale Generator Status.

Filed Date: 09/21/2007.

Accession Number: 20070921-5087.

Comment Date: 5 p.m. Eastern Time on Friday, October 12, 2007.

Docket Numbers: EG07-86-000.

Applicants: Sagebrush Power Partners, LLC.

Description: Sagebrush Power Partners, LLC Notice of Self-Certification of Exempt Wholesale Generator Status.

Filed Date: 09/21/2007.

Accession Number: 20070921-5094.

Comment Date: 5 p.m. Eastern Time on Friday, October 12, 2007.

Take notice that the Commission received the following electric rate filings:

Docket Numbers: ER00-1737-009; ER96-2869-011; ER97-30-004; ER99-1695-008; ER00-3621-007; ER01-468-006; ER05-34-003; ER05-35-003; ER05-36-003; ER05-37-003; ER04-318-002; ER04-249-003; ER02-23-009.

Applicants: Virginia Electric and Power Company; State Line Energy, L.L.C.; Kincaid Generation, L.L.C.; Elwood Energy, LLC; Dominion Nuclear Connecticut, Inc.; Dominion Energy Marketing, Inc.; Dominion Energy New England, Inc.; Dominion Energy Salem Harbor, LLC; Dominion Energy Brayton Point, LLC; Dominion Energy Manchester Street, Inc.; Dominion Energy Kewaunee, Inc.; Dominion Retail, Inc.; Fairless Energy, LLC.

Description: Notice of Non-Material Change in Status under Order No. 652 of Virginia Electric and Power Company and Dominion Entities.

Filed Date: 09/21/2007.

Accession Number: 20070921-5065.

Comment Date: 5 p.m. Eastern Time on Friday, October 12, 2007.

Docket Numbers: ER07-539-002; ER07-540-002.

Applicants: Niagara Mohawk Power Corporation.

Description: Niagara Mohawk Power Corp dba National Grid submits a second amendment to its 2/14/07 filings.

Filed Date: 09/19/2007.

Accession Number: 20070920-0114.

Comment Date: 5 p.m. Eastern Time on Wednesday, October 10, 2007.

Docket Numbers: ER07-1306-001.

Applicants: NedPower Mount Storm, LLC.

Description: NedPower Mount Storm, LLC submits an amendment to its application for order accepting Original Sheet 1 et al to FERC Electric Tariff, Original Volume 1.

Filed Date: 09/19/2007.

Accession Number: 20070921-0016.

Comment Date: 5 p.m. Eastern Time on Wednesday, October 10, 2007.

Docket Numbers: ER07-1330-001.

Applicants: Twin Cities Hydro LLC.

Description: Twin Cities Hydro, LLC submits revisions to its proposed market-based rate tariff, Original Sheet 1 and 2 to FERC Electric Tariff Original Volume 1.

Filed Date: 09/19/2007.

Accession Number: 20070921-0015.

Comment Date: 5 p.m. Eastern Time on Tuesday, October 2, 2007.

Docket Numbers: ER07-1389-000.

Applicants: Pypha Energy LLC.

Description: Pypha Energy, LLC submits Original Sheet 1 et al to FERC Electric Tariff, Original Volume 1.

Filed Date: 09/21/2007.

Accession Number: 20070921-0014.

Comment Date: 5 p.m. Eastern Time on Friday, October 12, 2007.

Docket Numbers: ER07-1390-000.

Applicants: E.ON U.S., LLC.

Description: Louisville Gas and Electric Co and Kentucky Utilities Company submits a revised unexecuted Service Agreement for Network Integration Transmission Service with East Kentucky Power Coop.

Filed Date: 09/20/2007.

Accession Number: 20070921-0001.

Comment Date: 5 p.m. Eastern Time on Thursday, October 11, 2007.

Take notice that the Commission received the following electric securities filings:

Docket Numbers: ES07-54-002.

Applicants: Electric Transmission Texas, LLC.

Description: Electric Transmission Texas, LLC submits a complete copy of the financial information under ES07-54.

Filed Date: 09/19/2007.

Accession Number: 20070921-0028.

Comment Date: 5 p.m. Eastern Time on Wednesday, October 10, 2007.

Take notice that the Commission received the following electric securities filings:

Docket Numbers: ES07-63-000.

Applicants: ITC Midwest LLC.

Description: Form 523—Request for Permission To Issue Securities of ITC Midwest LLC.

Filed Date: 09/18/2007.

Accession Number: 20070918-5058.

Comment Date: 5 p.m. Eastern Time on Tuesday, October 9, 2007.

Take notice that the Commission received the following foreign utility company status filings:

Docket Numbers: FC07-54-000; FC07-55-000; FC07-56-000; FC07-57-000; FC07-58-000; FC07-59-000.

Applicants: Enbridge Gas New Brunswick Inc.; Enbridge Wind Power Inc.; Gazifere Inc.; Inuvik Gas Ltd.; NRGreen Power Limited Partnership; Wirebury Connections Inc.

Description: Notice of Self-Certification of Foreign Utility Company Status of Enbridge Gas New Brunswick Inc., et al.

Filed Date: 09/19/2007.

Accession Number: 20070919-5103.

Comment Date: 5 p.m. Eastern Time on Wednesday, October 10, 2007.

Take notice that the Commission received the following open access transmission tariff filings:

Docket Numbers: OA07-116-000.

Applicants: American Transmission Systems, Inc.

Description: FPA Section 206 Filing With Non-Rate Terms and Conditions for American Transmission System, Inc. OATT.

Filed Date: 09/20/2007.

Accession Number: 20070920-5017.

Comment Date: 5 p.m. Eastern Time on Thursday, October 11, 2007.

Take notice that the Commission received the following public utility holding company filings:

Docket Numbers: PH07-28-000.

Applicants: Airtricity Holdings Ltd.

Description: FERC Form 65 A—Exemption Notification of Airtricity. Holdings Ltd. on Behalf of Itself and Its Holding Company Subsidiaries.

Filed Date: 09/20/2007.

Accession Number: 20070920-5020.

Comment Date: 5 p.m. Eastern Time on Thursday, October 11, 2007.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC.

There is an eSubscription link on the Web site that enables subscribers to receive e-mail notification when a document is added to a subscribed dockets(s). For assistance with any FERC Online service, please e-mail FERCOnlineSupport@ferc.gov. or call (866) 208-3676 (toll free). For TTY, call (202) 502-8659.

Nathaniel J. Davis, Sr.,
Acting Deputy Secretary.

[FR Doc. E7-19387 Filed 10-1-07; 8:45 am]

BILLING CODE 6717-01-P